Presidential Determination No. 2004-54 of September 30, 2004

Transfer of Funds under Section 610 of the Foreign

Assistance Act

Memorandum for the Secretary of State

Pursuant to the authority vested in me by the Constitution and laws of the United States, including section 610 of the Foreign Assistance Act of 1961, as amended (the “Act”), I hereby determine it necessary for the purposes of the Act that $24,852,500 made available under Chapter 3 of Part I of the Act for Fiscal Year 2004 be transferred to, and consolidated with, funds made available under Chapter 4 of Part II of the Act, and such funds are hereby transferred and consolidated.

You are hereby authorized and directed to report this determination to the Congress and to arrange for its publication in the Federal Register.

B

THE WHITE HOUSE,

Washington, September 30, 2004.

[FR Doc. 04-23047

Filed 10-13-04; 8:45 am]

Billing code 4710-10-P